DEPARTMENT OF COMMERCE

Foreign-Trade Zones Board

[Order No. 1368]

Expansion of Foreign-Trade Zone 176, Rockford, IL, Area

Pursuant to its authority under the Foreign-Trade Zones Act of June 18, 1934, as amended (19 U.S.C., 81a-81u), the Foreign-Trade Zones Board (the Board) adopts the following Order:

Whereas, the Greater Rockford Airport Authority, grantee of Foreign-Trade Zone 176, submitted an application to the Board for authority to expand FTZ 176 to include three sites (923 acres) in Rochelle (Ogle County), Illinois, and a site (74 acres) in Woodstock (McHenry County), Illinois, adjacent to the Rockford Customs port of entry (FTZ Docket 23-2004; filed 5/25/04; amended 9/24/04);

Whereas, notice inviting public comment was given in the Federal Register (69 FR 30871, 6/1/04 and 69 FR 58883, 10/1/04), and the application has been processed pursuant to the FTZ Act and the Board's regulations; and,

Whereas, the Board adopts the findings and recommendations of the examiner's report, and finds that the requirements of the FTZ Act and Board's regulations are satisfied, and that the proposal, as amended, is in the public interest;

Now, therefore, the Board hereby orders:

The application to expand FTZ 176 is approved as amended, subject to the Act and the Board's regulations, including section 400.28, and further subject to the Board's standard 2,000-acre activation limit for the overall zone project.

Signed in Washington, DC, this 9th day of February, 2005.
Joseph A. Spetrini,
Acting Assistant Secretary of Commerce for Import Administration, Alternate Chairman, Foreign-Trade Zones Board.
Attest:
Dennis Puccinelli,
Executive Secretary.

[FR Doc. 05-3810 Filed 2-25-05; 8:45 am]

BILLING CODE 3510-DS-P